DEPARTMENT OF THE TREASURY

Alcohol and Tobacco Tax and Trade Bureau

27 CFR Parts 4, 9, and 70

[Notice No. 78]

RIN 1513-AB39

Proposed Revision of American Viticultural Area Regulations (2006R-325P)

AGENCY: Alcohol and Tobacco Tax and Trade Bureau, Treasury.

ACTION: Notice of proposed rulemaking.

SUMMARY: The Alcohol and Tobacco Tax and Trade Bureau (TTB) proposes to amend its regulations concerning the establishment of American viticultural areas (AVAs). The proposed changes address the effect that the approval of an AVA may have on established brand names. In addition, the proposed changes provide clearer regulatory standards for the establishment of AVAs within AVAs. The proposed amendments also clarify the rules for preparing, submitting, and processing viticultural area petitions. Finally, we propose to add to the regulations statements regarding the viticultural significance of established viticultural area names, or key portions of those names, for wine labeling purposes.

DATES: We must receive written comments on or before January 22, 2008.

ADDRESSES: You may send comments on this notice to one of the following addresses:

• E-mail: http://www.regulations.gov (Federal e-rulemaking portal; follow the instructions for submitting comments);

• U.S. mail: Director, Regulations and Rulings Division, Alcohol and Tobacco Tax and Trade Bureau, P.O. Box 14412, Washington, DC 20044-4412; or

• Hand Delivery/Courier in lieu of mail: Alcohol and Tobacco Tax and Trade Bureau, 1310 G Street, NW., Suite 200-E, Washington, DC 20005.

See the Public Participation section of this notice for specific instructions and requirements for submitting comments, and for information on how to request a public hearing.

You may view copies of this notice and any comments we receive about this proposal at http://www.regulations.gov under Docket No. 2007-0068. You also may view copies of this notice and any comments we receive about this proposal by appointment at the TTB Information Resource Center, 1310 G Street, NW., Washington, DC 20220. To make an appointment, call 202-927-2400.

FOR FURTHER INFORMATION CONTACT: Rita D. Butler, Regulations and Rulings Division, Alcohol and Tobacco Tax and Trade Bureau, 1310 G Street, NW., Suite 200-E, Washington, DC 20220; telephone: 202-927-1608, fax: 202-927-8525.

SUPPLEMENTARY INFORMATION:

Background

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the regulations promulgated under the FAA Act.

Part 4 of the TTB regulations (27 CFR part 4) provides for the establishment of definitive viticultural areas and for the use of their names as appellations of origin on wine labels and in wine advertisements. Part 9 of the TTB regulations (27 CFR part 9) prescribes the standards for submitting a petition to establish a new American viticultural area (AVA) and contains a list with descriptions of all approved AVAs. Part 70 of the TTB regulations (27 CFR part 70) includes provisions regarding rulemaking petition procedures.

Definition

Section 4.25(e)(1)(i) of the TTB regulations (27 CFR 4.25(e)(1)(i)) defines a viticultural area for American wine as a delimited grape-growing region distinguishable by geographic features, the boundaries of which have been recognized and defined in part 9 of the TTB regulations. These AVA designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Current AVA Petition Process

Section 9.3 of the TTB regulations (27 CFR 9.3) sets forth the procedure and standards for the establishment of AVAs. Paragraph (a) of that section states that TTB will use the rulemaking process based on petitions received in accordance with §§ 4.25(e)(2) and 70.701(c) to establish AVAs. Paragraph (b) of § 9.3 states that a petition for the establishment of an AVA must contain the following:

• Evidence that the name of the viticultural area is locally and/or nationally known as referring to the area specified in the application;

• Historical or current evidence that the boundaries of the viticultural area are as specified in the application;

• Evidence relating to the geographical features (climate, soil, elevation, physical features, etc.) that distinguish the viticultural features of the proposed area from surrounding areas;

• The specific boundaries of the viticultural area, based on features that can be found on United States Geological Survey (U.S.G.S.) maps of the largest applicable scale; and

• A copy of the appropriate U.S.G.S. map(s) with the boundaries prominently marked.

The Need for Regulatory Changes

For a number of reasons, TTB and Treasury believe that a comprehensive review of the AVA program is warranted in order to maintain the integrity of the program. First, we are concerned that because the establishment of an AVA can limit the use of existing brand names, approval of an AVA can have a deleterious effect on established businesses, can limit competition, and can be used by petitioners to adversely affect a competitor's business. We note in this regard that where a conflict exists between a proposed AVA name and an established brand name used on a wine label approved by TTB, a choice must be made between competing commercial interests; we do not believe that, in the context of the labeling provisions of the FAA Act, it is an appropriate governmental role to make choices that undermine the commercial interests of particular entities, if such choices can be avoided.

In addition, we note that over the years there has been an increase in the number of petitions for the establishment of new AVAs within already existing AVAs. Because the idea behind the recognition of an AVA is that it is a unique area for viticultural purposes with reference to what is outside it, we believe that preserving the integrity of the AVA program mandates clarifying the standards for AVAs to foster greater scrutiny on the establishment of new AVAs within existing AVAs.

Finally, there is a need to explain and clarify the AVA petition submission and review process and to clearly state the existing authority to deny, and the grounds for denying, an AVA rulemaking petition.

AVA Name and Brand Name Conflict

The designation of a new AVA can create a conflict with existing brand names. This conflict can arise because a brand name that includes an approved AVA name may not be used unless at least 85 percent of the wine is derived from grapes grown within the boundaries of the AVA. Moreover, TTB prohibits the use of misleading brand names (27 CFR 4.33), and also prohibits brand names that tend to create the impression that the wine is entitled to bear a designation recognized by TTB unless the wine meets the requirements for that designation (27 CFR 4.39(a)(8)). The establishment of a new AVA could give rise to a misleading impression regarding the provenance of a wine that carries a known brand name similar to the AVA name but that does not meet the 85 percent requirement that applies to AVA name usage, thereby not providing the consumer with adequate information as to the identity and quality of the wine and creating confusion for consumers and jeopardizing the producer's continued use of the wine label in question.

The effect of the current regulatory provisions is to give precedence to the establishment of an AVA over the use of a brand name on a previously approved label. If a wine is not eligible for labeling with the viticultural area name and that name appears in the brand name, then the label would not be in compliance and TTB would require the bottler to obtain approval of a new label with a new brand name. In effect, vintners are on notice that continued use of a brand name having geographical significance could be jeopardized by the subsequent establishment of an AVA using an identical or similar name. In practice, however, TTB works with petitioners to amend petitions in order to limit the adverse impact on established brand names.

For several reasons, we believe it is important to dispel any misconceptions that AVA petitions will be approved without regard to their impact on established brands. First, we do not wish to discount the commercial and informational value of an established brand name, which often is built up over a period of time by substantial investments in capital and hard work. Second, we do not wish to overlook the possibility that, contrary to the purpose of the FAA Act, the use of the new AVA name on a label could be misleading to those consumers who have associated that name with wine bearing an identical or similar brand name but produced from grapes grown outside the new AVA. Finally, we do not believe it to be sound public policy to allow an AVA petitioner to use a petition not for purposes consistent with the FAA Act but rather as a means to limit competition from holders of established brands.

AVAs Within AVAs

In recent years, TTB has received an increasing number of petitions that propose a boundary change to an existing AVA, the establishment of an AVA entirely or partially within an existing AVA, or the establishment of a new, larger AVA that would encompass all of one or more existing AVAs. TTB has come to recognize that such petitions can create the appearance of a conflict or inconsistency because, with reference to the criteria set forth in § 9.3(b), the new petition might draw into question the accuracy and validity of the evidence presented in support of the establishment of the existing AVA or the legitimacy of the justification for establishing the AVA. For example, with reference to the boundary description and the geographical features criteria, a change in an existing AVA boundary, or the adoption of a new AVA within an existing AVA, could suggest that the original boundary was improperly drawn or that there is no unity or consistency in the features of the existing AVA that give it a unique and distinctive identity in a viticultural sense.

When a new AVA was established entirely within an existing AVA, TTB traditionally took the position that a wine that meets the 85 percent standard for the new, smaller AVA would automatically meet the 85 percent standard for the larger AVA. However, depending on the facts involved, we recognize that this position could run counter to the principle that an AVA is unique with reference to what is outside its boundary for viticultural purposes. In other words, depending on the unique facts presented in each AVA petition, an argument could be made that the smaller AVA is, by its very existence, distinct from the AVA that surrounds it, with the result that wine produced within it could not be labeled with the name of the larger AVA.

We believe that in order to preserve the integrity of the AVA program, the above considerations demonstrate a need for greater clarity for, and closer scrutiny of, petitions for the establishment of new AVAs and for changes to existing AVAs. The petitioner should be expected to dispel any apparent inconsistency or to explain why it is acceptable.

Petition Submission and Review Process

Under TTB's current AVA petition process, we process all AVA petitions that are submitted to us. TTB's practice is to work with the petitioner both before and after submission of the petition to ensure that it contains all necessary information. TTB specialists spend considerable time reviewing the petition, contacting the petitioner, and requesting missing evidence from the petitioner. In some cases, deficient petitions are returned to the petitioner for revision and resubmission. Only after the petition is perfected (that is, it appears to contain all of the information required under § 9.3) do we proceed with preparation of an appropriate rulemaking document. As a general rule, the practice of TTB has been to accept the information provided by the petitioner in a perfected petition with the assumption that the information provided is true and correct. TTB does not conduct a detailed, separate investigation of the validity of the petition evidence at that point. TTB relies on comments provided in response to the published notice of proposed rulemaking (NPRM), to confirm or refute the information provided by the petitioner.

We also note that whereas the TTB regulations in part 9 speak in terms of what an AVA petition must contain, they do not clearly reflect the fundamental administrative principle that the authority to grant carries a concomitant authority to deny an AVA petition. We have come to realize that some believe that all that is necessary to successfully petition for the establishment of an AVA is to submit a petition with evidence under the terms of § 9.3(b).

Our view, however, is that under the current regulatory framework approval of an AVA petition is totally discretionary, because TTB already has authority not to initiate rulemaking, or not to approve the petitioned-for AVA action after publication of a proposal, for any one of a number of reasons, such as:

• The evidence submitted with the petition does not adequately support use of the name proposed for a new AVA;

• The evidence of distinguishing features submitted with the petition does not support drawing or redrawing the AVA boundary as proposed;

• The extent of viticulture within the proposed boundary is not sufficient to constitute a grape-growing region within the intendment of the AVA program; or

• Approval of a proposed new AVA would be inconsistent with the purpose of the FAA Act, contrary to another statute or regulation, or otherwise not in the public interest.

We believe, however, that the part 9 regulations should more completely describe the submission and review process, including the various actions that TTB may take at each stage of the AVA petitioning procedure.

Overview of Proposed Changes

Based on the above considerations, TTB believes that the present regulations require further clarification of the regulatory basis for the most effective administration of the AVA program. To help clarify this situation, this document proposes to amend three provisions within part 4 of the TTB regulations that concern AVAs, to revise subparts A and B of part 9 of the TTB regulations, to amend various sections within subpart C of part 9, and to amend one provision within part 70 of the TTB regulations.

Part 4 Amendments

At the beginning of the AVA program, TTB's predecessor agency and Treasury issued 27 CFR 4.39(i), which permits the continued use of brand names that had been used in certificates of label approval (COLAs) issued before July 7, 1986, subject to application of any one of three conditions. The first two conditions refer to existing appellation of origin labeling requirements, and the third condition provides for labeling the wine with some other statement that TTB finds to be sufficient to dispel the impression that the geographic area suggested by the brand name is indicative of the origin of the wine.

This “grandfather” approach was intended to protect brand names that had existed prior to the development of the AVA program. This solution, however, was not forward-looking and, therefore, does not address conflicts between AVAs and brand names in COLAs that came into existence after July 7, 1986. Since July 1986, more than 100 AVAs have been established in response to petitions from industry members and grape growers, reflecting the increased interest in, and spread of, viticulture throughout the United States. In addition, in recent years an increasing number of petitions have been submitted that, if the AVA were to be established with the petitioned-for name, would affect established brand names. As noted above, our intent in administering the AVA program, consistent with the intent behind the original “grandfather” approach, is to recognize established grape-growing regions while avoiding interference with established brand names.

While TTB will continue to work with future AVA petitioners to limit the adverse impact on established brand names, we recognize that sometimes it will not be possible to amend a petition to achieve this result. In such cases, we believe that application of a new prospective “grandfather” approach would achieve the most balanced result. Accordingly, we are proposing to amend § 4.39(i) by adding a new “grandfathering” standard that would apply in the case of AVAs established after adoption of the final rule in this matter and that would be based on a specified number of years that a COLA was issued, and whether the brand label was in actual commercial use, before receipt by TTB of a perfected AVA petition. This approach would permit the establishment of the AVA and at the same time afford appropriate protection of existing labels.

In addition, we propose to update two provisions within § 4.25(e) and conform them to the proposed changes to part 9, as explained below.

Part 9 Amendments

The proposed changes to subparts A and B of part 9 are intended to clarify the operation of the AVA petition and rulemaking process by explaining how a petitioner must submit an AVA petition to TTB, by setting forth with considerably greater specificity what information a petition must contain, and by explaining how TTB will process these petitions. The amended regulations would also clearly state that TTB may, at its discretion, decide not to proceed with rulemaking after receipt of a petition but that TTB will provide an explanation to the petitioner in such a case.

Further, the proposed amendments to subparts A and B of part 9 specifically address the requirements for proposed boundary and name changes to existing AVAs, in order to ensure that an AVA proposal published by TTB to change an existing AVA (for example, a boundary expansion) has adequate supporting evidence. The specification of requirements for boundary changes will ensure that TTB receives petitions that conform to AVA regulatory standards rather than to considerations that are not central to the AVA concept, such as the desire to bring an individual vineyard into an existing AVA.

We also propose to clarify in the subpart A and B regulatory texts that TTB has the discretion to decide whether or not to proceed with rulemaking with regard to any submitted and perfected AVA petition, provided the reasons are communicated to the petitioner in writing. In addition, the proposed amendments reflect the authority of TTB to decide not to proceed with approval of the petitioned-for AVA action after publication of the NPRM. To these ends, the proposed regulatory amendments attempt to make a clear distinction between the petition process and the rulemaking process, because a decision not to go forward may be made at either stage.

The proposed amendments in subpart C are intended to draw the attention of the reader to the viticultural significance of names of previously established AVAs, or notable portions of those names, for wine labeling purposes under part 4 of the TTB regulations. These amendments are consistent with the practice employed by TTB over the past several years of including a second sentence in paragraph (a) of each section covering a new AVA, to specify what is viticulturally significant as a result of the establishment of the AVA. While in most cases only the full name of the AVA is specified in each of the subpart C amendments contained in this document, in some instances a portion of the name is also identified as viticulturally significant if, based on TTB's label approval practice, its use on a label could be taken to represent the full AVA name. While we have attempted to avoid specifying a part of an AVA name where such action might jeopardize the continued use of an approved label, we specifically invite comments on whether any existing labels would be at risk if the proposed amendments are adopted as a final rule.

Part 70 Amendment

Finally, we propose a conforming amendment to § 70.701(c) of the TTB regulations (27 CFR 70.701(c)), which concerns petitions to change TTB's rules.

Additional points regarding the proposed regulatory amendments are set forth in the section-by-section discussion below.

Section-by-Section Discussion of Proposed Changes

Section 4.25

We are proposing to revise the definition of viticultural area for American wine contained in § 4.25(e)(1)(i) to conform it to the new definition of “American viticultural area” proposed for part 9. In addition, we are proposing to revise § 4.25(e)(2) to conform it to the restructuring of part 9 and to correct a wording error in the present text.

Section 4.39(i)

We are proposing to add a new paragraph (3) to § 4.39(i) to set forth the new grandfather provision, with a consequential redesignation of present paragraph (3) as (4). The new provision would apply to AVAs and terms used in AVA names established as viticulturally significant under part 9 after the effective date of the final rule on this rulemaking action. As in the case of the present paragraph (2) grandfather provision, the new text would require the use of dispelling information regarding the origin of the wine.

The proposed new regulatory text refers to brand names that were used in COLAs issued prior to the 5-year period immediately preceding receipt of the perfected petition for establishment of the new AVA and that were in actual commercial use on labels for at least 3 years during that 5-year period as demonstrated by the COLA holder. We decided to propose two different periods of time because COLA issuance often precedes entry of a product into the marketplace by a year or more. We chose the 5-year period for COLA issuance because we believe that this is a reasonable period of time for the establishment of an ongoing viticultural enterprise, and we chose the 3-year period for actual commercial use because we believe that this is a reasonable period of time for achieving consumer recognition and loyalty. Under the proposed regulatory text, the mere possession of a COLA for 5 years or more would not be sufficient to trigger the new “grandfather” clause—it also would have to be established that the product in fact had a presence in the marketplace for at least 3 years during the 5-year period. We would not consider the mere placement of a label on a wine bottle to be actual commercial use because more would be required, that is, actual entry into the marketplace.

In addition to new paragraph (3), we are proposing to amend § 4.39(i) by revising paragraphs (1) and (2) to better express the cross-references and to simplify the text of paragraph (2) by removing paragraph (2)(i), which repeats a rule stated in paragraph (1) and thus is redundant. These proposed changes are purely editorial and do not affect the substance of the texts.

Section 9.0

We are proposing to add a new § 9.0 before subpart A to define the scope of the part 9 regulations. This new section replaces, and slightly expands upon the wording of, present § 9.1. We believe that this scope section is more appropriately placed before subpart A since it is intended to operate more as a reader's aid than as a substantive regulation.

Section 9.1

This proposed definitions section would replace present § 9.11 and would be the first section under subpart A. We believe that it is better regulatory practice to have a definitions section as the first substantive section within a part rather than following other sections that use the terms defined in it. The text is divided into paragraphs (a) and (b), with paragraph (a) containing the various definitions and paragraph (b) containing the “use of other terms” recitation in the present text, which is more substantive than definitional in nature.

Within paragraph (a) of new § 9.1, we propose to add new definitions covering “appropriate TTB officer,” “AVA,” “perfected petition,” “person,” “petition,” “petitioner,” “term of viticultural significance,” and “TTB.” In addition, we propose to combine the present definitions for “American” and “viticultural area” into one definition of “American viticultural area.” Finally, we propose a nonsubstantive wording change to the definition of “approved map.”

Section 9.3

We are proposing to add a new § 9.3 to describe the delegations of the Administrator's authorities for the administration of part 9. This is consistent with the practice under other parts of the TTB regulations.

Section 9.11

This new section would be the first section under subpart B, is intended to cover in more detail the petition submission process, and essentially reflects current practice as described above. It also clarifies both TTB's authority to decide whether to take action in response to a petition and the fact that mere receipt of a petition does not compel the publication of a rulemaking document in the Federal Register.

Section 9.12

This new section sets forth significantly elaborated AVA petition content standards to address a number of the concerns outlined earlier in this document. The proposed text distinguishes between petitions for the establishment of a new AVA and petitions for changes to an existing AVA. It also sets forth specific additional standards for petitions proposing the establishment of a new AVA entirely within, or overlapping, an existing AVA, or proposing the establishment of a new, larger AVA encompassing all of one or more existing AVAs. In the case of an AVA entirely within another AVA, the text states that in some cases TTB may determine that the smaller AVA will not be considered to be part of the larger AVA because of its particular distinctiveness; such a determination would be made only in connection with rulemaking involving a new AVA and therefore would only be applied prospectively. In addition, in the case of changes to existing AVAs, the text distinguishes between boundary changes and name changes. TTB believes that these distinctions are necessary to maintain the integrity of the AVA program, because different evidence or other information may be necessary to support a petition depending on the specific petitioned-for action.

Section 9.13

This new section covers the initial processing of an AVA petition after receipt by TTB, and it largely reflects TTB's present practice. The proposed text clarifies that the mere receipt of a perfected petition does not necessarily mean that TTB will proceed with rulemaking, and that the reasons for not proceeding with rulemaking will be set forth in writing to the petitioner. Thus, it is the intent of TTB to maintain a clear distinction between the processing of a petition and the initiation of rulemaking, which is the subject of the next section. If TTB decides to proceed with rulemaking, the new section also provides that TTB will advise the petitioner of the date of receipt of the perfected petition and will place a notice on the TTB Web site that the petition has been accepted for rulemaking.

Section 9.14

This new section covers the rulemaking process, which commences only after a decision is made under § 9.13 to proceed to rulemaking (preparation and publication of the NPRM). It includes a description of various final actions that TTB might take after the close of the public comment period and review of the comments submitted and any other relevant information that comes to the attention of TTB that might have a bearing on the action taken by TTB.

Among the proposed final actions that TTB might take is publication of a notice withdrawing the proposal to establish the AVA. In addition to a failure of a petition to identify an actual grape-growing region or to provide adequate name, boundary, and distinguishing features evidence, a proposed basis for such a withdrawal could be that adoption of the proposal would be inconsistent with a purpose of the FAA Act or any other Federal statute or regulation or would be otherwise contrary to the public interest. TTB believes that the latter grounds for withdrawing a proposal are appropriate based on the principle that administrative practice should always be consistent with, and never contrary to, law and public policy. As in the case of a withdrawal based on insufficient petition evidence, the Federal Register document announcing the withdrawal would explain the specific considerations upon which the withdrawal is based.

Subpart C

The proposed amendments within subpart C (in paragraphs 6 through 166) are consistent with the practice employed by TTB, which is to include a sentence in paragraph (a) to specify what is viticulturally significant as a result of the establishment of the AVA. The specification of a portion of an AVA name is based on TTB's label approvals as reflected in the TTB Public COLA Registry.

Section 70.701(c)

The amendment to § 70.701(c) involves the addition of a reference to part 9 regarding a petition to establish a grape-growing region as a new AVA or to modify an existing AVA.

Public Participation

Comments Invited

We invite comments from interested members of the public on this proposed rulemaking, including the proposed regulatory text.

In addition, we invite comment on the following specific questions:

1. Whether additional or different standards should apply to the establishment of an AVA; for example, whether there should be a requirement that a specified percentage of the land mass of the proposed AVA be involved in viticultural activities.

2. Whether in some or all cases the establishment of a smaller AVA located within the boundaries of a larger AVA should result in a prohibition against the use of the larger AVA name on wine labels.

3. Whether the use of a “grandfather” provision to avoid conflicts between an established brand name and the establishment of a proposed AVA is appropriate.

4. Whether the terms of the proposed “grandfather” provision are appropriate and, if so, what time periods should apply to establish commercial use of the brand name involved in a conflict.

5. Whether it would be more appropriate to adopt an alternative to the “grandfather” provision proposed that would apply to brand names that have longstanding commercial use under one or more existing certificates of label approval without specifying a time period.

6. What type of dispelling information would prevent consumers from being misled as to the origin of the wine when a “grandfather” provision applies. Other comments for a requirement on dispelling information are encouraged.

Submitting Comments

You may submit comments on this notice by one of the following methods:

• Federal e-Rulemaking Portal: To submit a comment on this notice using the online Federal e-rulemaking portal, visit http://www.regulations.gov and select “Alcohol and Tobacco Tax and Trade Bureau” from the agency drop-down menu and click “Submit.” In the resulting docket list, click the “Add Comments” icon for Docket No. 2007-0068 and complete the resulting comment form. You may attach supplemental files to your comment. More complete information on using Regulations.gov, including instructions for accessing open and closed dockets and for submitting comments, is available through the site's “User Tips” link.

• Mail: You may send written comments to the Director, Regulations and Rulings Division, Alcohol and Tobacco Tax and Trade Bureau, P.O. Box 14412, Washington, DC 20044-4412.

• Hand Delivery/Courier in lieu of mail: Alcohol and Tobacco Tax and Trade Bureau, 1310 G Street, NW., Suite 200-E, Washington, DC 20005.

Please submit your comments by the closing date shown above in this notice. Your comments must include this notice number and your name and mailing address. Your comments must be legible and written in language acceptable for public disclosure. We do not acknowledge receipt of comments, and we consider all comments as originals.

If you are commenting on behalf of an association, business, or other entity, your comment must include the entity's name as well as your name and position title. If you comment via http://www.regulations.gov, please enter the entity's name in the “Organization” blank of the comment form. If you comment via mail, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

On the Federal e-rulemaking portal, we will post, and you may view, copies of this notice and any electronic, mailed, or hand-delivered comments we receive about this proposal. To view a posted document or comment, go to http://www.regulations.gov and select “Alcohol and Tobacco Tax and Trade Bureau” from the agency drop-down menu and click “Submit.” In the resulting docket list, click the appropriate docket number, then click the “View” icon for any document or comment posted under that docket number.

All submitted and posted comments will display the commenter's name, organization (if any), city, and State, and, in the case of mailed or hand-delivered comments, all address information, including e-mail addresses. We may omit voluminous attachments or material that we consider unsuitable for posting.

You also may view copies of this notice and any electronic, mailed, or hand-delivered comments we receive about this proposal by appointment at the TTB Information Resource Center, 1310 G Street, NW., Washington, DC 20220. You may also obtain copies at 20 cents per 8.5 × 11-inch page. Contact our information specialist at the above address or by telephone at 202-927-2400 to schedule an appointment or to request copies of comments or other materials.

Regulatory Analysis and Notices

Executive Order 12866

This proposed rule is not a significant regulatory action as defined by Executive Order 12866. This proposed rule merely clarifies existing regulatory standards and imposes no new reporting, recordkeeping, or other administrative requirements. Therefore, it requires no regulatory assessment.

Regulatory Flexibility Act

We certify that these proposed regulations, if adopted, would not have a significant economic impact on a substantial number of small entities. As the submittal of a petition to TTB to establish a new AVA or change an existing AVA is voluntary, we believe that the proposed regulation imposes no new reporting, recordkeeping, or other administrative requirement. Therefore, no regulatory flexibility analysis is required.

Paperwork Reduction Act

The collection of information contained in this notice of proposed rulemaking has been submitted to the Office of Management and Budget (OMB) for review in accordance with the Paperwork Reduction Act of 1995 (44 U.S.C. 3507(d)). Comments on the collection of information should be sent to OMB at Alexander_T._Hunt@omb.eop.gov, or by paper mail to Office of Management and Budget, Attention: Desk Officer for the Department of the Treasury, Office of Information and Regulatory Affairs, Washington, DC 20503. A copy should also be sent to the Alcohol and Tobacco Tax and Trade Bureau by any of the methods previously described. Because OMB must complete its review of the collection of information between 30 and 60 days after publication, comments on the information collection should be submitted not later than December 20, 2007. Comments are specifically requested concerning:

• Whether the proposed collection of information is necessary for the proper performance of the functions of the Alcohol and Tobacco Tax and Trade Bureau, including whether the information will have practical utility;

• The accuracy of the estimated burden associated with the proposed collection of information (see below);

• How to enhance the quality, utility, and clarity of the information to be collected;

• How to minimize the burden of complying with the proposed collection of information, including the application of automated collection techniques or other forms of information technology; and

• Estimates of capital or start-up costs and costs of operation, maintenance, and purchase of services to provide information.

The collection of information in this proposed regulation is in 27 CFR 9.11 and 9.12. This information is required to petition TTB to establish a new AVA or to change an existing AVA. This information will be used to verify evidence sources and to determine whether the information is sufficient to begin the rulemaking process (that is, proceed to a notice of proposed rulemaking). The collection of information is required to obtain a benefit. The likely respondents are non-profit institutions and small businesses or organizations.

• Estimated total annual reporting and/or recordkeeping burden: 2,398 hours.

• Estimated average annual burden hours per respondent: 218 hours.

• Estimated number of respondents: 11 per year.

• Estimated annual frequency of responses: 1.

An agency may not conduct or sponsor, and a person is not required to respond to, a collection of information unless it displays a valid control number assigned by OMB.

Drafting Information

Rita D. Butler of the Regulations and Rulings Division drafted this document.

List of Subjects

27 CFR Part 4

Advertising, Customs duties and inspection, Imports, Labeling, Packaging and containers, Reporting and recordkeeping requirements, Trade practices, and Wine.

27 CFR Part 9

Wine.

27 CFR Part 70

Administrative practice and procedure, Claims, Excise taxes, Freedom of information, Law enforcement, Penalties, Reporting and recordkeeping requirements, and Surety bonds.

Proposed Amendments to the Regulations

For the reasons discussed in the preamble, TTB proposes to amend 27 CFR, chapter I, parts 4, 9, and 70, as follows:

PART 4—LABELING AND ADVERTISING OF WINE

1. The authority citation for part 4 continues to read as follows:

Authority: 27 U.S.C. 205, unless otherwise noted.

2. In § 4.25, paragraphs (e)(1)(i) and (e)(2) are revised to read as follows:

§ 4.25 Appellations of origin.

* * * * *

(e) Viticultural area—(1) Definition—(i) American wine. A delimited grape growing region having distinguishing features as described in part 9 of this chapter and a name and a delineated boundary as established in part 9 of this chapter.

* * * * *

(2) Establishment of American viticultural areas. A petition for the establishment of an American viticultural area may be made to the Administrator by any interested party, pursuant to part 9 and § 70.701(c) of this chapter. The petition must be made in written form and must contain the information specified in § 9.12 of this chapter.

* * * * *

3. In § 4.39, paragraphs (i)(1) and (i)(2) are revised, paragraph (i)(3) is redesignated as paragraph (i)(4), and a new paragraph (i)(3) is added, to read as follows:

§ 4.39 Prohibited practices.

* * * * *

(i) Geographic brand names. (1) Except as provided in paragraph (i)(2) or (3) of this section, a brand name of viticultural significance may not be used unless the wine meets the appellation of origin requirements for the geographic area named.

(2) For brand names used in existing certificates of label approval issued prior to July 7, 1986:

(i) The wine shall be labeled with an appellation of origin in accordance with § 4.34(b) of this chapter as to location and size of type of either:

(A) A county or a viticultural area, if the brand name bears the name of a geographic area smaller than a state; or

(B) A state, county or a viticultural area, if the brand name bears a state name; or

(ii) The wine shall be labeled with some other statement which the appropriate TTB officer finds to be sufficient to dispel the impression that the geographic area suggested by the brand name is indicative of the origin of the wine.

(3) Brand names that do not meet the requirements of paragraph (i)(2) of this section and that contain the name of a viticultural area or other term of viticultural significance established under part 9 of this chapter on or after [INSERT EFFECTIVE DATE OF FINAL RULE] may be used in conjunction with information which the appropriate TTB officer finds to be sufficient to dispel the impression that the geographic area suggested by the brand name is indicative of the origin of the wine, provided that the brand name:

(i) Was used in an existing certificate of label approval issued prior to the 5-year period immediately preceding receipt of the perfected petition for establishment of the viticultural area; and

(ii) Was in actual commercial use on labels for at least 3 years during that 5-year period.

* * * * *

PART 9—AMERICAN VITICULTURAL AREAS

4. The authority citation for part 9 continues to read as follows:

Authority: 27 U.S.C. 205.

5. A new § 9.0 is added before Subpart A to read as follows:

§ 9.0 Scope.

The regulations in this part relate to American viticultural areas created under the authority of the Federal Alcohol Administration Act and referred to in § 4.25(e) of this chapter.

6. Subparts A and B are revised to read as follows:

Subpart A—General Provisions

§ 9.1 Definitions.

(a) General. For purposes of this part, and unless the specific context otherwise requires, the following terms shall have the meanings indicated:

Administrator. The Administrator, Alcohol and Tobacco Tax and Trade Bureau, Department of the Treasury, Washington, DC.

American viticultural area. A viticultural area as defined in § 4.25(e)(1)(i) of this chapter.

Appropriate TTB officer. An officer or employee of the Alcohol and Tobacco Tax and Trade Bureau authorized to perform any functions relating to the administration or enforcement of this part by TTB Order 1135.9, Delegation of the Administrator's Authorities in 27 CFR Part 9, American Viticultural Areas.

Approved map. The U.S.G.S. map(s) used to define the boundary of an approved AVA.

AVA. An American viticultural area.

Perfected petition. A petition containing all of the evidence meeting the requirements of § 9.12 and containing sufficient supporting information for TTB to decide whether or not to proceed with rulemaking to establish a new AVA or to change an existing AVA.

Person. An individual, partnership, association, corporation, or other entity.

Petition. A written request to establish a new AVA or to change an existing AVA, signed by the petitioner or an authorized agent of the petitioner, and submitted in accordance with this part and § 70.701(c) of this chapter.

Petitioner. An individual or entity that submits a petition to TTB.

Term of viticultural significance. A term recognized under § 4.39(i)(3) of this chapter.

TTB. The Alcohol and Tobacco Tax and Trade Bureau, Department of the Treasury, Washington, DC.

U.S.G.S. The United States Geological Survey.

(b) Use of other terms. Any other term defined in the Federal Alcohol Administration Act and used in this part shall have the same meaning assigned to it by that Act.

§ 9.2 Territorial extent.

This part applies to the several States of the United States, the District of Columbia, and Puerto Rico.

§ 9.3 Delegations of the Administrator.

Most of the regulatory authorities of the Administrator contained in this part are delegated to appropriate TTB officers. Those TTB officers are specified in TTB Order 1135.9, Delegation of the Administrator's Authorities in 27 CFR Part 9, American Viticultural Areas. You may obtain a copy of this order by accessing the TTB Web site (http://www.ttb.gov) or by mailing a request to the Alcohol and Tobacco Tax and Trade Bureau, National Revenue Center, 550 Main Street, Room 1516, Cincinnati, OH 45202.

Subpart B—AVA Petitions

§ 9.11 Submission of AVA petitions.

(a) Procedure for petitioner. Any person may submit an AVA petition to TTB to establish a grape-growing region as a new AVA, to change the boundary of an existing AVA, or to change the name of an existing AVA. The petitioner is responsible for including with the petition all of the information specified in § 9.12. The person submitting the petition is also responsible for providing timely and complete responses to TTB requests for additional information to support the petition.

(b) How and where to submit an AVA petition. The AVA petition may be sent to TTB using the U.S. Postal Service or a private delivery service. A petition sent through the U.S. Postal Service should be addressed to: Regulations and Rulings Division, Alcohol and Tobacco Tax and Trade Bureau, 1310 G Street, NW., Washington, DC 20220. A petition sent via a private delivery service should be directed to: Regulations and Rulings Division, Alcohol and Tobacco Tax and Trade Bureau, Suite 200E, 1310 G Street, NW., Washington, DC 20005.

(c) Purpose and effect of submission of AVA petitions. The submission of a petition under this subpart is intended to provide TTB with sufficient documentation to propose the establishment of a new AVA or to propose changing the name or boundary of an existing AVA. After considering the petition evidence and any other relevant information, TTB shall decide what action to take in response to a petition and shall so advise the petitioner. Nothing in this chapter shall, or shall be interpreted to, compel any Department of the Treasury official to proceed to rulemaking in response to a submitted petition.

§ 9.12 AVA petition requirements.

(a) Establishment of an AVA in general. A petition for the establishment of a new AVA must include all of the evidentiary materials and other information specified in this section. The petition must stand on its own and require no independent verification or research by TTB.

(1) Name evidence. The name identified for the proposed AVA must be currently and directly associated with an area in which viticulture exists. All of the area within the proposed AVA boundary must be nationally or locally known by the name specified in the petition, although the use of that name may extend beyond the proposed AVA boundary. The name evidence must conform to the following rules:

(i) Name usage. The petition must completely explain, in narrative form, the manner in which the name is used for the area covered by the proposed AVA.

(ii) Source of name and name evidence. The name and the evidence in support of it must come from sources independent of the petitioner. Appropriate name evidence sources include, but are not limited to, historical and modern government or commercial maps, books, newspapers, magazines, tourist and other promotional materials, local business or school names, and road names. Whenever practicable, the petitioner must include with the petition copies of the name evidence materials, appropriately cross-referenced in the petition narrative. Although anecdotal information by itself is not sufficient, statements taken from local residents with knowledge of the name and its use may also be included to support other name evidence.

(2) Boundary evidence. The petition must explain in detail the basis for defining the boundary of the proposed AVA as set forth in the petition. This explanation must have reference to the name evidence and other distinguishing features information required under this section. In support of the proposed boundary, the petition must outline the commonalities or similarities within that boundary and must explain with specificity how those elements are different in the adjacent areas outside that boundary.

(3) Distinguishing features. The petition must provide, in narrative form, a description of the common or similar features of the proposed AVA affecting viticulture that make it distinctive. The petition must also explain with specificity in what way these features affect viticulture and how they are distinguished viticulturally from features associated with adjacent areas outside the proposed AVA boundary. For purposes of this section, information relating to distinguishing features affecting viticulture includes the following:

(i) Climate. Temperature, precipitation, wind, fog, solar orientation and radiation, and other climate information;

(ii) Geology. Underlying formations, landforms, and such geophysical events as earthquakes, eruptions, and major floods;

(iii) Soils. Soil series or phases of a soil series, denoting parent material, texture, slope, permeability, soil reaction, drainage, and fertility;

(iv) Physical features. Flat, hilly, or mountainous topography, geographical formations, bodies of water, watersheds, irrigation resources, and other physical features; and

(v) Elevation. Minimum and maximum elevations.

(4) Maps and boundary description—(i) Maps. The petitioner must submit with the petition, in an appropriate scale, the U.S.G.S. map(s) showing the location of the proposed AVA. The exact boundary of the AVA must be prominently and clearly drawn on the maps without obscuring the underlying features that define the boundary line. U.S.G.S. maps may be obtained from the U.S. Geological Survey, Branch of Distribution. If the map name is not known, the petitioner may request a map index by State.

(ii) Boundary description. The petition must include a detailed narrative description of the proposed AVA boundary based on U.S.G.S. map markings. This description must have a specific beginning point, must proceed unbroken from that point in a clockwise direction, and must return to that beginning point to complete the boundary description. The boundary description must refer to easily discernable reference points on the U.S.G.S. maps. The proposed AVA boundary description may rely on any of the following map features:

(A) State, county, township, forest, and other political entity lines;

(B) Highways, roads (including unimproved roads), and trails;

(C) Contour or elevation lines;

(D) Natural geographical features, including rivers, streams, creeks, ridges, and marked elevation points (such as summits or benchmarks);

(E) Human-made features (such as bridges, buildings, windmills, or water tanks); and

(F) Straight lines between marked intersections, human-made features, or other map points.

(b) AVAs within AVAs. If the petition proposes the establishment of a new AVA entirely within, or overlapping, an existing AVA, the evidence submitted under paragraph (a) of this section must include information that both identifies the attributes of the proposed AVA that are consistent with the existing AVA and explains how the proposed AVA is sufficiently distinct from the existing AVA and therefore appropriate for separate recognition. If the petition proposes the establishment of a new AVA that is larger than, and encompasses, all of one or more existing AVAs, the evidence submitted under paragraph (a) of this section must include information addressing whether, and to what extent, the attributes of the proposed AVA are consistent with those of the existing AVA(s). In any case in which an AVA would be created entirely within another AVA, whether by the establishment of a new, larger AVA or by the establishment of a new AVA within an existing one, the petition must dispel any apparent inconsistency or explain why it is acceptable. When a smaller AVA has name recognition and features that so clearly distinguish it from a larger AVA that surrounds it, TTB may determine in the course of the rulemaking that it is not part of the larger AVA and that wine produced from grapes grown within the smaller AVA would not be entitled to use the name of the larger AVA as an appellation of origin or in a brand name.

(c) Modification of an existing AVA—(1) Boundary change. If a petition seeks to change the boundary of an existing AVA, the petitioner must include with the petition all relevant evidence and other information specified for a new AVA petition in paragraphs (a) and (b) of this section. This evidence or information must include, at a minimum, the following:

(i) Name evidence. If the proposed change involves an expansion of the existing boundary, the petition must show how the name of the existing AVA also applies to the expansion area. If the proposed change would result in a decrease in the size of an existing AVA, the petition must explain the extent to which the AVA name does not apply to the excluded area.

(ii) Distinguishing features. The petition must demonstrate that the area covered by the proposed change has, or does not have, distinguishing features affecting viticulture that are essentially the same as those of the existing AVA. If the proposed change involves an expansion of the existing AVA, the petition must demonstrate that the area covered by the expansion has the same distinguishing features as those of the existing AVA and has different features from those of the area outside the proposed, new boundary. If the proposed change would result in a decrease in the size of an existing AVA, the petition must explain how the distinguishing features of the excluded area are different from those within the boundary of the smaller AVA. In all cases the distinguishing features must affect viticulture.

(iii) Boundary evidence and description. The petition must explain how the boundary of the existing AVA was incorrectly or incompletely defined or is no longer accurate due to new evidence or changed circumstances, with reference to the name evidence and distinguishing features of the existing AVA and of the area affected by the proposed boundary change. The petition must include the appropriate U.S.G.S. maps with the proposed boundary change drawn on them and must provide a detailed narrative description of the changed boundary.

(2) Name change. If a petition seeks to change the name of an existing AVA, the petition must establish the suitability of that name change by providing the name evidence specified in paragraph (a)(1) of this section.

§ 9.13 Initial processing of AVA petitions.

(a) TTB notification to petitioner of petition receipt. The appropriate TTB officer will acknowledge receipt of a submitted petition. This notification will be in a letter sent to the petitioner within 30 days of receipt of the petition.

(b) Acceptance of a perfected petition or return of a deficient petition to the petitioner. The appropriate TTB officer will perform an initial review of the petition to determine whether it is a perfected petition. If the petition is not perfected, the appropriate TTB officer will return it to the petitioner without prejudice to resubmission in perfected form. If the petition is perfected, TTB will decide whether to proceed with rulemaking under § 9.14 and will advise the petitioner in writing of that decision. If TTB decides to proceed with rulemaking, TTB will advise the petitioner of the date of receipt of the perfected petition. If TTB decides not to proceed with rulemaking, TTB will advise the petitioner of the reasons for that decision.

(c) Notice of pending petition. When a perfected petition is accepted for rulemaking, TTB will place a notice to that effect on the TTB Web site.

§ 9.14 AVA rulemaking process.

(a) Notice of proposed rulemaking. If TTB determines that rulemaking in response to a petition is appropriate, TTB will prepare and publish a notice of proposed rulemaking (NPRM) in the Federal Register to solicit public comments on the petitioned-for AVA action.

(b) Final action. Following the close of the NPRM comment period, TTB will review any submitted comments and any other available relevant information and will take one of the following actions:

(1) Prepare a final rule for publication in the Federal Register adopting the proposed AVA action, with or without changes;

(2) Prepare a notice for publication in the Federal Register withdrawing the proposal and setting forth the reasons for the withdrawal. Reasons for withdrawal of a proposal must include at least one of the following:

(i) The extent of viticulture within the proposed boundary is not sufficient to constitute a grape-growing region as specified in § 9.11(a); or

(ii) The name, boundary, or distinguishing features evidence does not meet the standards for such evidence set forth in § 9.12; or

(iii) The petitioned-for action would be inconsistent with one of the purposes of the Federal Alcohol Administration Act or any other Federal statute or regulation or would be otherwise contrary to the public interest;

(3) Prepare a new NPRM for publication in the Federal Register setting forth a modified AVA action for public comment; or

(4) Take any other action deemed appropriate by TTB.

§ 9.22 [Amended]

7. Section 9.22 is amended by adding a sentence at the end of paragraph (a) to read as follows: “For purposes of part 4 of this chapter, ‘Augusta’ is a term of viticultural significance.”

§ 9.23 [Amended]

8. Section 9.23 is amended by adding a sentence at the end of paragraph (a) to read as follows: “For purposes of part 4 of this chapter, ‘Napa’ and ‘Napa Valley’ are terms of viticultural significance.”

§ 9.24 [Amended]

9. Section 9.24 is amended by adding a sentence at the end of paragraph (a) to read as follows: “For purposes of part 4 of this chapter, ‘Chalone’ is a term of viticultural significance.”

§ 9.25 [Amended]

10. Section 9.25 is amended by adding a sentence at the end of paragraph (a) to read as follows: “For purposes of part 4 of this chapter, ‘San Pasqual’ and ‘San Pasqual Valley’ are terms of viticultural significance.”

§ 9.26 [Amended]

11. Section 9.26 is amended by adding a sentence at the end of paragraph (a) to read as follows: “For purposes of part 4 of this chapter, ‘Guenoc’ and ‘Guenoc Valley’ are terms of viticultural significance.”

§ 9.27 [Amended]

12. Section 9.27 is amended by adding a sentence at the end of paragraph (a) to read as follows: “For purposes of part 4 of this chapter, ‘Lime Kiln Valley’ is a term of viticultural significance.”

§ 9.28 [Amended]

13. Section 9.28 is amended by adding a sentence at the end of paragraph (a) to read as follows: “For purposes of part 4 of this chapter, ‘Santa Maria Valley’ is a term of viticultural significance.”

§ 9.29 [Amended]

14. Section 9.29 is amended by adding a sentence at the end of paragraph (a) to read as follows: “For purposes of part 4 of this chapter, ‘Sonoma’ and ‘Sonoma Valley’ are terms of viticultural significance.”

§ 9.30 [Amended]

15. Section 9.30 is amended by adding a sentence at the end of paragraph (a) to read as follows: “For purposes of part 4 of this chapter, ‘North Coast’ is a term of viticultural significance.”

§ 9.31 [Amended]

16. Section 9.31 is amended by adding a sentence at the end of paragraph (a) to read as follows: “For purposes of part 4 of this chapter, ‘Santa Cruz’ and ‘Santa Cruz Mountains’ are terms of viticultural significance.”

§ 9.32 [Amended]

17. Section 9.32 is amended by revising the sentence at the end of paragraph (a) to read as follows: “For purposes of part 4 of this chapter, ‘Carneros’ and ‘Los Carneros’ are terms of viticultural significance.”

§ 9.33 [Amended]

18. Section 9.33 is amended by adding a sentence at the end of paragraph (a) to read as follows: “For purposes of part 4 of this chapter, ‘Fennville’ is a term of viticultural significance.”

§ 9.34 [Amended]

19. Section 9.34 is amended by adding a sentence at the end of paragraph (a) to read as follows: “For purposes of part 4 of this chapter, ‘Finger Lakes’ is a term of viticultural significance.”

§ 9.35 [Amended]

20. Section 9.35 is amended by adding a sentence at the end of paragraph (a) to read as follows: “For purposes of part 4 of this chapter, ‘Edna Valley’ is a term of viticultural significance.”

§ 9.36 [Amended]

21. Section 9.36 is amended by adding a sentence at the end of paragraph (a) to read as follows: “For purposes of part 4 of this chapter, ‘McDowell Valley’ is a term of viticultural significance.”

§ 9.37 [Amended]

22. Section 9.37 is amended by adding a sentence at the end of paragraph (a) to read as follows: “For purposes of part 4 of this chapter, ‘Shenandoah’, ‘Shenandoah Valley’, and ‘California Shenandoah Valley’ are terms of viticultural significance.”

§ 9.38 [Amended]

23. Section 9.38 is amended by adding a sentence at the end of paragraph (a) to read as follows: “For purposes of part 4 of this chapter, ‘Cienega’ and ‘Cienega Valley’ are terms of viticultural significance.”

§ 9.39 [Amended]

24. Section 9.39 is amended by adding a sentence at the end of paragraph (a) to read as follows: “For purposes of part 4 of this chapter, ‘Paicines’ is a term of viticultural significance.”

§ 9.40 [Amended]

25. Section 9.40 is amended by adding a sentence at the end of paragraph (a) to read as follows: “For purposes of part 4 of this chapter, ‘Leelanau’ and ‘Leelanau Peninsula’ are terms of viticultural significance.”

§ 9.41 [Amended]

26. Section 9.41 is amended by adding a sentence at the end of paragraph (a) to read as follows: “For purposes of part 4 of this chapter, ‘Lancaster Valley’ is a term of viticultural significance.”

§ 9.42 [Amended]

27. Section 9.42 is amended by adding a sentence at the end of paragraph (a) to read as follows: “For purposes of part 4 of this chapter, ‘Cole Ranch’ is a term of viticultural significance.”

§ 9.43 [Amended]

28. Section 9.43 is amended by adding a sentence at the end of paragraph (a) to read as follows: “For purposes of part 4 of this chapter, ‘Rocky Knob’ is a term of viticultural significance.”

§ 9.44 [Amended]

29. Section 9.44 is amended by adding a sentence at the end of paragraph (a) to read as follows: “For purposes of part 4 of this chapter, ‘Solano County Green Valley’ is a term of viticultural significance.”

§ 9.45 [Amended]

30. Section 9.45 is amended by adding a sentence at the end of paragraph (a) to read as follows: “For purposes of part 4 of this chapter, ‘Suisun Valley’ is a term of viticultural significance.”

§ 9.46 [Amended]

31. Section 9.46 is amended by adding a sentence at the end of paragraph (a) to read as follows: “For purposes of part 4 of this chapter, ‘Livermore Valley’ is a term of viticultural significance.”

§ 9.47 [Amended]

32. Section 9.47 is amended by adding a sentence at the end of paragraph (a) to read as follows: “For purposes of part 4 of this chapter, ‘Hudson River’ and ‘Hudson River Region’ are terms of viticultural significance.”

§ 9.48 [Amended]

33. Section 9.48 is amended by adding a sentence at the end of paragraph (a) to read as follows: “For purposes of part 4 of this chapter, ‘Monticello’ is a term of viticultural significance.”

§ 9.49 [Amended]

34. Section 9.49 is amended by adding a sentence at the end of paragraph (a) to read as follows: “For purposes of part 4 of this chapter, ‘Delaware Valley’ and ‘Central Delaware Valley’ are terms of viticultural significance.”

§ 9.50 [Amended]

35. Section 9.50 is amended by adding a sentence at the end of paragraph (a) to read as follows: “For purposes of part 4 of this chapter, ‘Temecula’ and ‘Temecula Valley’ are terms of viticultural significance.”

§ 9.51 [Amended]

36. Section 9.51 is amended by adding a sentence at the end of paragraph (a) to read as follows: “For purposes of part 4 of this chapter, ‘Isle St. George’ is a term of viticultural significance.”

§ 9.52 [Amended]

37. Section 9.52 is amended by adding a sentence at the end of paragraph (a) to read as follows: “For purposes of part 4 of this chapter, ‘Chalk Hill’ is a term of viticultural significance.”

§ 9.53 [Amended]

38. Section 9.53 is amended by adding a sentence at the end of paragraph (a) to read as follows: “For purposes of part 4 of this chapter, ‘Alexander Valley’ is a term of viticultural significance.”

§ 9.54 [Amended]

39. Section 9.54 is amended by adding a sentence at the end of paragraph (a) to read as follows: “For purposes of part 4 of this chapter, ‘Santa Ynez’ and ‘Santa Ynez Valley’ are terms of viticultural significance.”

§ 9.55 [Amended]

40. Section 9.55 is amended by adding a sentence at the end of paragraph (a) to read as follows: “For purposes of part 4 of this chapter, ‘Bell Mountain’ is a term of viticultural significance.”

§ 9.56 [Amended]

41. Section 9.56 is amended by adding a sentence at the end of paragraph (a) to read as follows: “For purposes of part 4 of this chapter, ‘San Lucas’ is a term of viticultural significance.”

§ 9.57 [Amended]

42. Section 9.57 is amended by adding a sentence at the end of paragraph (a) to read as follows: “For purposes of part 4 of this chapter, ‘Sonoma’, ‘Sonoma County’, and ‘Sonoma County Green Valley’ are terms of viticultural significance.”

§ 9.58 [Amended]

43. Section 9.58 is amended by adding a sentence at the end of paragraph (a) to read as follows: “For purposes of part 4 of this chapter, ‘Carmel Valley’ is a term of viticultural significance.”

§ 9.59 [Amended]

44. Section 9.59 is amended by adding a sentence at the end of paragraph (a) to read as follows: “For purposes of part 4 of this chapter, ‘Arroyo Seco’ is a term of viticultural significance.”

§ 9.60 [Amended]

45. Section 9.60 is amended by adding a sentence at the end of paragraph (a) to read as follows: “For purposes of part 4 of this chapter, ‘Shenandoah’ and ‘Shenandoah Valley’ are terms of viticultural significance.”

§ 9.61 [Amended]

46. Section 9.61 is amended by adding a sentence at the end of paragraph (a) to read as follows: “For purposes of part 4 of this chapter, ‘El Dorado’ is a term of viticultural significance.”

§ 9.62 [Amended]

47. Section 9.62 is amended by adding a sentence at the end of paragraph (a) to read as follows: “For purposes of part 4 of this chapter, ‘Loramie Creek’ is a term of viticultural significance.”

§ 9.63 [Amended]

48. Section 9.63 is amended by adding a sentence at the end of paragraph (a) to read as follows: “For purposes of part 4 of this chapter, ‘Linganore’ is a term of viticultural significance.”

§ 9.64 [Amended]

49. Section 9.64 is amended by adding a sentence at the end of paragraph (a) to read as follows: “For purposes of part 4 of this chapter, ‘Dry Creek’ and ‘Dry Creek Valley’ are terms of viticultural significance.”

§ 9.65 [Amended]

50. Section 9.65 is amended by adding a sentence at the end of paragraph (a) to read as follows: “For purposes of part 4 of this chapter, ‘North Fork of Roanoke’ is a term of viticultural significance.”

§ 9.66 [Amended]

51. Section 9.66 is amended by adding a sentence at the end of paragraph (a) to read as follows: “For purposes of part 4 of this chapter, ‘Russian River’ and ‘Russian River Valley’ are terms of viticultural significance.”

§ 9.67 [Amended]

52. Section 9.67 is amended by adding a sentence at the end of paragraph (a) to read as follows: “For purposes of part 4 of this chapter, ‘Catoctin’ is a term of viticultural significance.”

§ 9.68 [Amended]

53. Section 9.68 is amended by adding a sentence at the end of paragraph (a) to read as follows: “For purposes of part 4 of this chapter, ‘Merritt Island’ is a term of viticultural significance.”

§ 9.69 [Amended]

54. Section 9.69 is amended by adding a sentence at the end of paragraph (a) to read as follows: “For purposes of part 4 of this chapter, ‘Yakima’ and ‘Yakima Valley’ are terms of viticultural significance.”

§ 9.70 [Amended]

55. Section 9.70 is amended by adding a sentence at the end of paragraph (a) to read as follows: “For purposes of part 4 of this chapter, ‘Sonoma’ and ‘Northern Sonoma’ are terms of viticultural significance.”

§ 9.71 [Amended]

56. Section 9.71 is amended by adding a sentence at the end of paragraph (a) to read as follows: “For purposes of part 4 of this chapter, ‘Hermann’ is a term of viticultural significance.”

§ 9.72 [Amended]

57. Section 9.72 is amended by adding a sentence at the end of paragraph (a) to read as follows: “For purposes of part 4 of this chapter, ‘Southeastern New England’ is a term of viticultural significance.”

§ 9.73 [Amended]

58. Section 9.73 is amended by adding a sentence at the end of paragraph (a) to read as follows: “For purposes of part 4 of this chapter, ‘Martha's Vineyard’ is a term of viticultural significance.”

§ 9.74 [Amended]

59. Section 9.74 is amended by adding a sentence at the end of paragraph (a) to read as follows: “For purposes of part 4 of this chapter, ‘Columbia Valley’ is a term of viticultural significance.”

§ 9.75 [Amended]

60. Section 9.75 is amended by adding a sentence at the end of paragraph (a) to read as follows: “For purposes of part 4 of this chapter, ‘Central Coast’ is a term of viticultural significance.”

§ 9.76 [Amended]

61. Section 9.76 is amended by adding a sentence at the end of paragraph (a) to read as follows: “For purposes of part 4 of this chapter, ‘Knights Valley’ is a term of viticultural significance.”

§ 9.77 [Amended]

62. Section 9.77 is amended by adding a sentence at the end of paragraph (a) to read as follows: “For purposes of part 4 of this chapter, ‘Altus’ is a term of viticultural significance.”

§ 9.78 [Amended]

63. Section 9.78 is amended by adding a sentence at the end of paragraph (a) to read as follows: “For purposes of part 4 of this chapter, ‘Ohio River’ and ‘Ohio River Valley’ are terms of viticultural significance.”

§ 9.79 [Amended]

64. Section 9.79 is amended by adding a sentence at the end of paragraph (a) to read as follows: “For purposes of part 4 of this chapter, ‘Lake Michigan’ and ‘Lake Michigan Shore’ are terms of viticultural significance.”

§ 9.80 [Amended]

65. Section 9.80 is amended by adding a sentence at the end of paragraph (a) to read as follows: “For purposes of part 4 of this chapter, ‘York Mountain’ is a term of viticultural significance.”

§ 9.81 [Amended]

66. Section 9.81 is amended by adding a sentence at the end of paragraph (a) to read as follows: “For purposes of part 4 of this chapter, ‘Fiddletown’ is a term of viticultural significance.”

§ 9.82 [Amended]

67. Section 9.82 is amended by adding a sentence at the end of paragraph (a) to read as follows: “For purposes of part 4 of this chapter, ‘Potter Valley’ is a term of viticultural significance.”

§ 9.83 [Amended]

68. Section 9.83 is amended by adding a sentence at the end of paragraph (a) to read as follows: “For purposes of part 4 of this chapter, ‘Lake Erie’ is a term of viticultural significance.”

§ 9.84 [Amended]

69. Section 9.84 is amended by adding a sentence at the end of paragraph (a) to read as follows: “For purposes of part 4 of this chapter, ‘Paso Robles” is a term of viticultural significance.”

§ 9.85 [Amended]

70. Section 9.85 is amended by adding a sentence at the end of paragraph (a) to read as follows: “For purposes of part 4 of this chapter, ‘Willow Creek’ is a term of viticultural significance.”

§ 9.86 [Amended]

71. Section 9.86 is amended by adding a sentence at the end of paragraph (a) to read as follows: “For purposes of part 4 of this chapter, ‘Anderson Valley’ is a term of viticultural significance.”

§ 9.87 [Amended]

72. Section 9.87 is amended by adding a sentence at the end of paragraph (a) to read as follows: “For purposes of part 4 of this chapter, ‘Grand River Valley’ is a term of viticultural significance.”

§ 9.88 [Amended]

73. Section 9.88 is amended by adding a sentence at the end of paragraph (a) to read as follows: “For purposes of part 4 of this chapter, ‘Pacheco Pass’ is a term of viticultural significance.”

§ 9.89 [Amended]

74. Section 9.89 is amended by adding a sentence at the end of paragraph (a) to read as follows: “For purposes of part 4 of this chapter, ‘Umpqua’ and ‘Umpqua Valley’ are terms of viticultural significance.”

§ 9.90 [Amended]

75. Section 9.90 is amended by adding a sentence at the end of paragraph (a) to read as follows: “For purposes of part 4 of this chapter, ‘Willamette’ and ‘Willamette Valley’ are terms of viticultural significance.”

§ 9.91 [Amended]

76. Section 9.91 is amended by adding a sentence at the end of paragraph (a) to read as follows: “For purposes of part 4 of this chapter, ‘Walla Walla’ and ‘Walla Walla Valley’ are terms of viticultural significance.”

§ 9.92 [Amended]

77. Section 9.92 is amended by adding a sentence at the end of paragraph (a) to read as follows: “For purposes of part 4 of this chapter, ‘Madera’ is a term of viticultural significance.”

§ 9.93 [Amended]

78. Section 9.93 is amended by adding a sentence at the end of paragraph (a) to read as follows: “For purposes of part 4 of this chapter, ‘Mendocino’ is a term of viticultural significance.”

§ 9.94 [Amended]

79. Section 9.94 is amended by adding a sentence at the end of paragraph (a) to read as follows: “For purposes of part 4 of this chapter, ‘Howell Mountain’ is a term of viticultural significance.”

§ 9.95 [Amended]

80. Section 9.95 is amended by adding a sentence at the end of paragraph (a) to read as follows: “For purposes of part 4 of this chapter, ‘Clarksburg’ is a term of viticultural significance.”

§ 9.96 [Amended]

81. Section 9.96 is amended by adding a sentence at the end of paragraph (a) to read as follows: “For purposes of part 4 of this chapter, ‘Mississippi Delta’ is a term of viticultural significance.”

§ 9.97 [Amended]

82. Section 9.97 is amended by adding a sentence at the end of paragraph (a) to read as follows: “For purposes of part 4 of this chapter, ‘Sonoita’ is a term of viticultural significance.”

§ 9.98 [Amended]

83. Section 9.98 is amended by adding a sentence at the end of paragraph (a) to read as follows: “For purposes of part 4 of this chapter, ‘Monterey’ is a term of viticultural significance.”

§ 9.99 [Amended]

84. Section 9.99 is amended by adding a sentence at the end of paragraph (a) to read as follows: “For purposes of part 4 of this chapter, ‘Clear Lake’ is a term of viticultural significance.”

§ 9.100 [Amended]

85. Section 9.100 is amended by adding a sentence at the end of paragraph (a) to read as follows: “For purposes of part 4 of this chapter, ‘Mesilla’ and ‘Mesilla Valley’ are terms of viticultural significance.”

§ 9.101 [Amended]

86. Section 9.101 is amended by adding a sentence at the end of paragraph (a) to read as follows: “For purposes of part 4 of this chapter, ‘The Hamptons', ‘Long Island', and ‘The Hamptons, Long Island’ are terms of viticultural significance.”

§ 9.102 [Amended]

87. Section 9.102 is amended by adding a sentence at the end of paragraph (a) to read as follows: “For purposes of part 4 of this chapter, ‘Sonoma’ and ‘Sonoma Mountain’ are terms of viticultural significance.”

§ 9.103 [Amended]

88. Section 9.103 is amended by adding a sentence at the end of paragraph (a) to read as follows: “For purposes of part 4 of this chapter, ‘Mimbres Valley’ is a term of viticultural significance.”

§ 9.104 [Amended]

89. Section 9.104 is amended by adding a sentence at the end of paragraph (a) to read as follows: “For purposes of part 4 of this chapter, ‘South Coast’ is a term of viticultural significance.”

§ 9.105 [Amended]

90. Section 9.105 is amended by adding a sentence at the end of paragraph (a) to read as follows: “For purposes of part 4 of this chapter, ‘Cumberland Valley’ is a term of viticultural significance.”

§ 9.106 [Amended]

91. Section 9.106 is amended by adding a sentence at the end of paragraph (a) to read as follows: “For purposes of part 4 of this chapter, ‘Yuba’ and ‘North Yuba’ are terms of viticultural significance.”

§ 9.107 [Amended]

92. Section 9.107 is amended by adding a sentence at the end of paragraph (a) to read as follows: “For purposes of part 4 of this chapter, ‘Lodi’ is a term of viticultural significance.”

§ 9.108 [Amended]

93. Section 9.108 is amended by adding a sentence at the end of paragraph (a) to read as follows: “For purposes of part 4 of this chapter, ‘Ozark Mountain’ is a term of viticultural significance.”

§ 9.109 [Amended]

94. Section 9.109 is amended by adding a sentence at the end of paragraph (a) to read as follows: “For purposes of part 4 of this chapter, ‘George Washington Birthplace’ and ‘Northern Neck George Washington Birthplace’ are terms of viticultural significance.”

§ 9.110 [Amended]

95. Section 9.110 is amended by adding a sentence at the end of paragraph (a) to read as follows: “For purposes of part 4 of this chapter, ‘San Benito’ is a term of viticultural significance.”

§ 9.111 [Amended]

96. Section 9.111 is amended by adding a sentence at the end of paragraph (a) to read as follows: “For purposes of part 4 of this chapter, ‘Kanawha', ‘Kanawha River', and ‘Kanawha River Valley’ are terms of viticultural significance.”

§ 9.112 [Amended]

97. Section 9.112 is amended by adding a sentence at the end of paragraph (a) to read as follows: “For purposes of part 4 of this chapter, ‘Arkansas Mountain’ is a term of viticultural significance.”

§ 9.113 [Amended]

98. Section 9.113 is amended by adding a sentence at the end of paragraph (a) to read as follows: “For purposes of part 4 of this chapter, ‘Long Island’ and ‘North Fork of Long Island’ are terms of viticultural significance.”

§ 9.114 [Amended]

99. Section 9.114 is amended by adding a sentence at the end of paragraph (a) to read as follows: “For purposes of part 4 of this chapter, ‘Old Mission Peninsula’ is a term of viticultural significance.”

§ 9.115 [Amended]

100. Section 9.115 is amended by adding a sentence at the end of paragraph (a) to read as follows: “For purposes of part 4 of this chapter, ‘Ozark Highlands’ is a term of viticultural significance.”

§ 9.116 [Amended]

101. Section 9.116 is amended by adding a sentence at the end of paragraph (a) to read as follows: “For purposes of part 4 of this chapter, ‘Sonoma’ and ‘Sonoma Coast’ are terms of viticultural significance.”

§ 9.117 [Amended]

102. Section 9.117 is amended by adding a sentence at the end of paragraph (a) to read as follows: “For purposes of part 4 of this chapter, ‘Stags Leap District’ is a term of viticultural significance.”

§ 9.118 [Amended]

103. Section 9.118 is amended by adding a sentence at the end of paragraph (a) to read as follows: “For purposes of part 4 of this chapter, ‘Ben Lomond Mountain’ is a term of viticultural significance.”

§ 9.119 [Amended]

104. Section 9.119 is amended by adding a sentence at the end of paragraph (a) to read as follows: “For purposes of part 4 of this chapter, ‘Rio Grande’, ‘Rio Grande Valley', and ‘Middle Rio Grande Valley’ are terms of viticultural significance.”

§ 9.120 [Amended]

105. Section 9.120 is amended by adding a sentence at the end of paragraph (a) to read as follows: “For purposes of part 4 of this chapter, ‘Sierra Foothills’ is a term of viticultural significance.”

§ 9.121 [Amended]

106. Section 9.121 is amended by adding a sentence at the end of paragraph (a) to read as follows: “For purposes of part 4 of this chapter, ‘Warren Hills’ is a term of viticultural significance.”

§ 9.122 [Amended]

107. Section 9.122 is amended by adding a sentence at the end of paragraph (a) to read as follows: “For purposes of part 4 of this chapter, ‘Connecticut Highlands’ and ‘Western Connecticut Highlands’ are terms of viticultural significance.”

§ 9.123 [Amended]

108. Section 9.123 is amended by adding a sentence at the end of paragraph (a) to read as follows: “For purposes of part 4 of this chapter, ‘Mt. Veeder’ is a term of viticultural significance.”

§ 9.124 [Amended]

109. Section 9.124 is amended by adding a sentence at the end of paragraph (a) to read as follows: “For purposes of part 4 of this chapter, ‘Wild Horse Valley’ is a term of viticultural significance.”

§ 9.125 [Amended]

110. Section 9.125 is amended by adding a sentence at the end of paragraph (a) to read as follows: “For purposes of part 4 of this chapter, ‘Texas Hill Country’ and ‘Fredericksburg in the Texas Hill Country’ are terms of viticultural significance.”

§ 9.126 [Amended]

111. Section 9.126 is amended by adding a sentence at the end of paragraph (a) to read as follows: “For purposes of part 4 of this chapter, ‘Santa Clara Valley’ is a term of viticultural significance.”

§ 9.127 [Amended]

112. Section 9.127 is amended by adding a sentence at the end of paragraph (a) to read as follows: “For purposes of part 4 of this chapter, ‘Cayuga’ and ‘Cayuga Lake’ are terms of viticultural significance.”

§ 9.128 [Amended]

113. Section 9.128 is amended by adding a sentence at the end of paragraph (a) to read as follows: “For purposes of part 4 of this chapter, ‘Seneca Lake’ is a term of viticultural significance.”

§ 9.129 [Amended]

114. Section 9.129 is amended by adding a sentence at the end of paragraph (a) to read as follows: “For purposes of part 4 of this chapter, ‘Arroyo’, ‘Arroyo Grande’, and ‘Arroyo Grande Valley’ are terms of viticultural significance.”

§ 9.130 [Amended]

115. Section 9.130 is amended by adding a sentence at the end of paragraph (a) to read as follows: “For purposes of part 4 of this chapter, ‘San Ysidro District’ is a term of viticultural significance.”

§ 9.131 [Amended]

116. Section 9.131 is amended by adding a sentence at the end of paragraph (a) to read as follows: “For purposes of part 4 of this chapter, ‘Mt. Harlan’ is a term of viticultural significance.”

§ 9.132 [Amended]

117. Section 9.132 is amended by adding a sentence at the end of paragraph (a) to read as follows: “For purposes of part 4 of this chapter, ‘Rogue Valley’ is a term of viticultural significance.”

§ 9.133 [Amended]

118. Section 9.133 is amended by adding a sentence at the end of paragraph (a) to read as follows: “For purposes of part 4 of this chapter, ‘Rutherford’ is a term of viticultural significance.”

§ 9.134 [Amended]

119. Section 9.134 is amended by adding a sentence at the end of paragraph (a) to read as follows: “For purposes of part 4 of this chapter, ‘Oakville’ is a term of viticultural significance.”

§ 9.135 [Amended]

120. Section 9.135 is amended by adding a sentence at the end of paragraph (a) to read as follows: “For purposes of part 4 of this chapter, ‘Virginia's Eastern Shore’ is a term of viticultural significance.”

§ 9.136 [Amended]

121. Section 9.136 is amended by adding a sentence at the end of paragraph (a) to read as follows: “For purposes of part 4 of this chapter, ‘Texas Hill’ and ‘Texas Hill Country’ are terms of viticultural significance.”

§ 9.137 [Amended]

122. Section 9.137 is amended by adding a sentence at the end of paragraph (a) to read as follows: “For purposes of part 4 of this chapter, ‘Grand Valley’ is a term of viticultural significance.”

§ 9.138 [Amended]

123. Section 9.138 is amended by adding a sentence at the end of paragraph (a) to read as follows: “For purposes of part 4 of this chapter, ‘Benmore Valley’ is a term of viticultural significance.”

§ 9.139 [Amended]

124. Section 9.139 is amended by adding a sentence at the end of paragraph (a) to read as follows: “For purposes of part 4 of this chapter, ‘Santa Lucia’ and ‘Santa Lucia Highlands’ are terms of viticultural significance.”

§ 9.140 [Amended]

125. Section 9.140 is amended by adding a sentence at the end of paragraph (a) to read as follows: “For purposes of part 4 of this chapter, ‘Atlas Peak’ is a term of viticultural significance.”

§ 9.141 [Amended]

126. Section 9.141 is amended by adding a sentence at the end of paragraph (a) to read as follows: “For purposes of part 4 of this chapter, ‘Escondido’ and ‘Escondido Valley’ are terms of viticultural significance.”

§ 9.142 [Amended]

127. Section 9.142 is amended by adding a sentence at the end of paragraph (a) to read as follows: “For purposes of part 4 of this chapter, ‘Bennett Valley’ is a term of viticultural significance.”

§ 9.143 [Amended]

128. Section 9.143 is amended by adding a sentence at the end of paragraph (a) to read as follows: “For purposes of part 4 of this chapter, ‘Spring Mountain District’ is a term of viticultural significance.”

§ 9.144 [Amended]

129. Section 9.144 is amended by adding a sentence at the end of paragraph (a) to read as follows: “For purposes of part 4 of this chapter, ‘Texas High Plains’ is a term of viticultural significance.”

§ 9.145 [Amended]

130. Section 9.145 is amended by adding a sentence at the end of paragraph (a) to read as follows: “For purposes of part 4 of this chapter, ‘Dunnigan Hills’ is a term of viticultural significance.”

§ 9.146 [Amended]

131. Section 9.146 is amended by adding a sentence at the end of paragraph (a) to read as follows: “For purposes of part 4 of this chapter, ‘Lake Wisconsin’ is a term of viticultural significance.”

§ 9.147 [Amended]

132. Section 9.147 is amended by adding a sentence at the end of paragraph (a) to read as follows: “For purposes of part 4 of this chapter, ‘Hames Valley’ is a term of viticultural significance.”

§ 9.148 [Amended]

133. Section 9.148 is amended by adding a sentence at the end of paragraph (a) to read as follows: “For purposes of part 4 of this chapter, ‘Seiad’ and ‘Seiad Valley’ are terms of viticultural significance.”

§ 9.149 [Amended]

134. Section 9.149 is amended by adding a sentence at the end of paragraph (a) to read as follows: “For purposes of part 4 of this chapter, ‘St. Helena’ is a term of viticultural significance.”

§ 9.150 [Amended]

135. Section 9.150 is amended by adding a sentence at the end of paragraph (a) to read as follows: “For purposes of part 4 of this chapter, ‘Cucamonga’ and ‘Cucamonga Valley’ are terms of viticultural significance.”

§ 9.151 [Amended]

136. Section 9.151 is amended by adding a sentence at the end of paragraph (a) to read as follows: “For purposes of part 4 of this chapter, ‘Puget Sound’ is a term of viticultural significance.”

§ 9.152 [Amended]

137. Section 9.152 is amended by adding a sentence at the end of paragraph (a) to read as follows: “For purposes of part 4 of this chapter, ‘Malibu’, ‘Newton Canyon’, and ‘Malibu-Newton Canyon’ are terms of viticultural significance.”

§ 9.153 [Amended]

138. Section 9.153 is amended by adding a sentence at the end of paragraph (a) to read as follows: “For purposes of part 4 of this chapter, ‘Redwood Valley’ is a term of viticultural significance.”

§ 9.154 [Amended]

139. Section 9.154 is amended by adding a sentence at the end of paragraph (a) to read as follows: “For purposes of part 4 of this chapter, ‘Chiles Valley’ is a term of viticultural significance.”

§ 9.155 [Amended]

140. Section 9.155 is amended by adding a sentence at the end of paragraph (a) to read as follows: “For purposes of part 4 of this chapter, ‘Texas Davis Mountains’ is a term of viticultural significance.”

§ 9.156 [Amended]

141. Section 9.156 is amended by adding a sentence at the end of paragraph (a) to read as follows: “For purposes of part 4 of this chapter, ‘Diablo Grande’ is a term of viticultural significance.”

§ 9.157 [Amended]

142. Section 9.157 is amended by adding a sentence at the end of paragraph (a) to read as follows: “For purposes of part 4 of this chapter, ‘San Francisco Bay’ is a term of viticultural significance.”

§ 9.158 [Amended]

143. Section 9.158 is amended by adding a sentence at the end of paragraph (a) to read as follows: “For purposes of part 4 of this chapter, ‘Mendocino Ridge’ is a term of viticultural significance.”

§ 9.159 [Amended]

144. Section 9.159 is amended by adding a sentence at the end of paragraph (a) to read as follows: “For purposes of part 4 of this chapter, ‘Yorkville Highlands’ is a term of viticultural significance.”

§ 9.160 [Amended]

145. Section 9.160 is amended by adding a sentence at the end of paragraph (a) to read as follows: “For purposes of part 4 of this chapter, ‘Yountville’ is a term of viticultural significance.”

§ 9.161 [Amended]

146. Section 9.161 is amended by adding a sentence at the end of paragraph (a) to read as follows: “For purposes of part 4 of this chapter, ‘Oak Knoll District’, ‘Napa Valley’, and ‘Oak Knoll District of Napa Valley’ are terms of viticultural significance.”

§ 9.163 [Amended]

147. Section 9.163 is amended by adding a sentence at the end of paragraph (a) to read as follows: “For purposes of part 4 of this chapter, ‘Salado Creek’ is a term of viticultural significance.”

§ 9.164 [Amended]

148. Section 9.164 is amended by adding a sentence at the end of paragraph (a) to read as follows: “For purposes of part 4 of this chapter, ‘River Junction’ is a term of viticultural significance.”

§ 9.165 [Amended]

149. Section 9.165 is amended by adding a sentence at the end of paragraph (a) to read as follows: “For purposes of part 4 of this chapter, ‘Applegate Valley’ is a term of viticultural significance.”

§ 9.166 [Amended]

150. Section 9.166 is amended by adding a sentence at the end of paragraph (a) to read as follows: “For purposes of part 4 of this chapter, ‘Diamond Mountain District’ is a term of viticultural significance.”

§ 9.167 [Amended]

151. Section 9.167 is amended by adding a sentence at the end of paragraph (a) to read as follows: “For purposes of part 4 of this chapter, ‘Red Mountain’ is a term of viticultural significance.”

§ 9.168 [Amended]

152. Section 9.168 is amended by adding a sentence at the end of paragraph (a) to read as follows: “For purposes of part 4 of this chapter, ‘Fair Play’ is a term of viticultural significance.”

§ 9.169 [Amended]

153. Section 9.169 is amended by adding a sentence at the end of paragraph (a) to read as follows: “For purposes of part 4 of this chapter, ‘Red Hills of Lake County’ and ‘Red Hills Lake County’ are terms of viticultural significance.”

§ 9.170 [Amended]

154. Section 9.170 is amended by adding a sentence at the end of paragraph (a) to read as follows: “For purposes of part 4 of this chapter, ‘Long Island’ is a term of viticultural significance.”

§ 9.171 [Amended]

155. Section 9.171 is amended by adding a sentence at the end of paragraph (a) to read as follows: “For purposes of part 4 of this chapter, ‘San Bernabe’ is a term of viticultural significance.”

§ 9.172 [Amended]

156. Section 9.172 is amended by adding a sentence at the end of paragraph (a) to read as follows: “For purposes of part 4 of this chapter, ‘West Elks’ is a term of viticultural significance.”

§ 9.173 [Amended]

157. Section 9.173 is amended by adding a sentence at the end of paragraph (a) to read as follows: “For purposes of part 4 of this chapter, ‘Rockpile’ is a term of viticultural significance.”

§ 9.174 [Amended]

158. Section 9.174 is amended by adding a sentence at the end of paragraph (a) to read as follows: “For purposes of part 4 of this chapter, ‘Yadkin’ and ‘Yadkin Valley’ are terms of viticultural significance.”

§ 9.176 [Amended]

159. Section 9.176 is amended by adding a sentence at the end of paragraph (a) to read as follows: “For purposes of part 4 of this chapter, ‘Capay’ and ‘Capay Valley’ are terms of viticultural significance.”

§ 9.177 [Amended]

160. Section 9.177 is amended by adding a sentence at the end of paragraph (a) to read as follows: “For purposes of part 4 of this chapter, ‘Alexandria Lakes’ is a term of viticultural significance.”

§ 9.178 [Amended]

161. Section 9.178 is amended by adding a sentence at the end of paragraph (a) to read as follows: “For purposes of part 4 of this chapter, ‘Columbia Gorge’ is a term of viticultural significance.”

§ 9.179 [Amended]

162. Section 9.179 is amended by adding a sentence at the end of paragraph (a) to read as follows: “For purposes of part 4 of this chapter, ‘Southern Oregon’ is a term of viticultural significance.”

§ 9.180 [Amended]

163. Section 9.180 is amended by adding a sentence at the end of paragraph (a) to read as follows: “For purposes of part 4 of this chapter, ‘Dundee’ and ‘Dundee Hills’ are terms of viticultural significance.”

§ 9.181 [Amended]

164. Section 9.181 is amended by adding a sentence at the end of paragraph (a) to read as follows: “For purposes of part 4 of this chapter, ‘McMinnville’ is a term of viticultural significance.”

§ 9.182 [Amended]

165. Section 9.182 is amended by adding a sentence at the end of paragraph (a) to read as follows: “For purposes of part 4 of this chapter, ‘Ribbon Ridge’ is a term of viticultural significance.”

§ 9.183 [Amended]

166. Section 9.183 is amended by adding a sentence at the end of paragraph (a) to read as follows: “For purposes of part 4 of this chapter, ‘Yamhill-Carlton District’ is a term of viticultural significance.”

§ 9.184 [Amended]

167. Section 9.184 is amended by adding a sentence at the end of paragraph (a) to read as follows: “For purposes of part 4 of this chapter, ‘Trinity Lakes” is a term of viticultural significance.”

PART 70—PROCEDURE AND ADMINISTRATION

168. The authority citation for part 70 continues to read as follows:

Authority: 5 U.S.C. 301 and 552; 26 U.S.C. 4181, 4182, 5146, 5203, 5207, 5275, 5367, 5415, 5504, 5555, 5684(a), 5741, 5761(b), 5802, 6020, 6021, 6064, 6102, 6155, 6159, 6201, 6203, 6204, 6301, 6303, 6311, 6313, 6314, 6321, 6323, 6325, 6326, 6331-6343, 6401-6404, 6407, 6416, 6423, 6501-6503, 6511, 6513, 6514, 6532, 6601, 6602, 6611, 6621, 6622, 6651, 6653, 6656-6658, 6665, 6671, 6672, 6701, 6723, 6801, 6862, 6863, 6901, 7011, 7101, 7102, 7121, 7122, 7207, 7209, 7214, 7304, 7401, 7403, 7406, 7423, 7424, 7425, 7426, 7429, 7430, 7432, 7502, 7503, 7505, 7506, 7513, 7601-7606, 7608-7610, 7622, 7623, 7653, 7805.

§ 70.701 [Amended]

169. Section 70.701 is amended by adding a sentence at the end of paragraph (c) to read as follows: “A petition to establish a new American viticultural area or to modify an existing American viticultural area is subject to the rules in part 9 of this chapter.”

Signed: October 18, 2007.
John J. Manfreda,
Administrator.
Approved: November 7, 2007.
Timothy E. Skud,
Deputy Assistant Secretary (Tax, Trade, and Tariff Policy).

[FR Doc. E7-22717 Filed 11-19-07; 8:45 am]

BILLING CODE 4810-31-P